DEPARTMENT OF ENERY

Federal Energy Regulatory Commission

[Docket No. RP00-350-000]

Williston Basis Interstate Pipeline Company; Notice of Request for Waiver

June 21, 2000.

Take notice that on June 8, 2000, Williston Basis Interstate Pipeline Company (Williston Basin), tendered for filing a request for waiver of the provisions of the electronic data interchange (EDI) processing requirements related to the Gas Industry Standards Board (GISB) Verion 1.4 standards, except those Capacity Release standards which are necessary to conduct data retrieval transactions.

Williston Basin states that it requests waiver of the following GISB Version 1.4 standards; Nominations standards 1.4.1 through 1.4.7; Flowing Gas standards 2.4.1 through 2.4.6; Invoicing standards 3.4.1 through 3.4.4; and Capacity Release standards 5.4.4, 5.4.6 through 5.4.12, and 5.4.18 through 5.4.19. In the alternative, Williston Basin states that it respectfully requests that the Commission grant the Company an extension of time to implement the GISB Version 1.4 EDI processing requirements until such time that a Part 284 customer, which pays for service on Williston Basin's system, requests that the Company offer such EDI transactions and fully executes a Trading Partner Agreement with Williston Basin.

Any person desiring to be heard or to protest said filing should file a motion to intervene or a protest with the Federal Energy Regulatory Commission, 888 First Street, NE., Washington, DC 20426, in accordance with sections 385.214 or 385.211 of the Commission's rules and regulations. All such motions or protests must be filed on or before June 28, 2000. Protests will be considered by the Commission in determining the appropriate action to be taken, but will not serve to make protestants parties to the procedings. Any person wishing to become a party must gile a motion to intervene. Copies of this filing are on file with the Commission and are available for public inspection in the Public Reference Room. This filing may be viewed on the web at http://www.ferc.fed.us/online/rims.htm (call 202-208-2222 for assistance).

David P. Boergers,
Secretary.

[FR Doc. 00-16136 Filed 6-26-00; 8:45 am]

BILLING CODE 6717-01-M